FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 4266F.

Name: Aharon, Evelyn, O dba Cargoplan International.

Address: 41 Conshohocken State Road, Apt. 114, Bala Cynwyd, PA 19004.

Date Surrendered: July 14, 2014.

Reason: Voluntary surrender of license.

License No.: 021266NF.

Name: Tri-Best Logistics, Inc.

Address: 16700 Valley View Avenue, Suite 162, La Mirada, CA 90638.

Date Surrendered: July 2, 2014.

Reason: Voluntary surrender of license.

License No.: 022425NF.

Name: RDR Worldwide, LLC.

Address: 1230 West Bagley Road, Berea, OH 44017.

Date Surrendered: July 2, 2014.

Reason: Voluntary surrender of license.

Sandra L. Kusumoto.
Director, Bureau of Certification and Licensing.

[FR Doc. 2014-17982 Filed 7-30-14; 8:45 am]

BILLING CODE 6730-01-P